DEPARTMENT OF HEALTH AND HUMAN SERVICES

Substance Abuse and Mental Health Services Administration

Center for Mental Health Services; Notice of Meeting Pursuant to Public Law 92-463, notice is hereby given of the meeting of the Center for Mental Health Services (CMHS) National Advisory Council in June 2002.

A portion of the meeting will be open and will include a roll call, general announcements, and discussion about consumer affairs and prevention and early intervention activities.

Public comments are welcome. Please communicate with the individual listed below as contact for guidance. If anyone needs special accommodations for persons with disabilities please notify the contact listed below.

The meeting will also include the review, discussion, and evaluation of grant applications. Therefore a portion of the meeting will be closed to the public as determined by the Administrator, SAMHSA, in accordance with Title 5 U.S.C. 552b(c)(6) and 5 U.S.C. App. 2. & 10 (d).

A summary of the meeting and a roster of Council members may be obtained from Ms. Eileen Pensinger, Executive Secretary, CMHS, Room 15-99, Parklawn Building, Rockville, Maryland 20857, telephone (301) 443-4823.

Committee Name: Center for Mental Health Services National Advisory Council.

Meeting Date: June 20-21, 2002.

Place: The Gaithersburg Marriott Washingtonian Center (at Rio), 9751 Washingtonian Boulevard, Gaithersburg, Maryland.

Type:

Open: June 20, 2002, 2:30 p.m.-5 p.m.

Closed: June 21, 2002, 8 a.m.-10:45 a.m.

Open: June 21, 2002, 10:45 a.m.-12:30 p.m.

Contact: Eileen S. Pensinger, M.Ed., Executive Secretary, 5600 Fishers Lane, Parklawn Building, Room 15-99, Rockville, Maryland 20857, Telephone: (301) 443-4823 and FAX (301) 443-5163.

Dated: June 4, 2002.
Toian Vaughn,
Executive Secretary/Committee Management Officer, Substance Abuse and Mental Health Services Administration.

[FR Doc. 02-14460 Filed 6-7-02; 8:45 am]

BILLING CODE 4162-20-P